DEPARTMENT OF LABOR

Employment and Training Administration

[TA-W-38,149]

Plum Creek Timber, Pablo, Montana; Notice of Termination of Investigation

Pursuant to section 221 of the Trade Act of 1974, an investigation was initiated on October 2, 2000 in response to a worker petition which was filed by the company on behalf of workers at Plum Creek Timber, Pablo, Montana.

The petitioner has requested that the petition be withdrawn. Consequently, further investigation in this case would serve no purpose, and the investigation has been terminated.

Signed in Washington, DC this 2nd day of November, 2000.
Linda G. Poole,
Certifying Officer, Division of Trade Adjustment Assistance.

[FR Doc. 00-30625 Filed 11-30-00; 8:45 am]

BILLING CODE 4510-30-M